DEPARTMENT OF THE TREASURY

Senior Executive Service Performance Review Boards

AGENCY: Department of the Treasury.

ACTION: Notice of Appointments to Performance Review Boards (PRBs).

SUMMARY: This notice announces the appointment of members to the Department of the Treasury's Performance Review Boards (PRBs). The purpose of these Boards are to review and make recommendations concerning proposed performance appraisals, ratings, bonuses and other appropriate personnel actions for incumbents of SES positions in the Department.

DATES: Membership is effective on the date of this notice.

FOR FURTHER INFORMATION CONTACT: Kimberly Jackson or Kimberly Steide, Office of Executive Resources, 1500 Pennsylvania Avenue NW, ATTN: 1801 L Street, 6th Floor, Washington, DC 20220. Telephone: 202-622-0774.

SUPPLEMENTARY INFORMATION:

Composition of the PRB: The Boards shall consist of at least three members. In the case of an appraisal of a career appointee, more than half the members shall consist of career appointees. The persons listed below may be selected to serve on one or more PRBs within Treasury.

Names for Federal Register Publication

Top Officials

• Aditi Hardikar, Assistant Secretary for Management

• Timothy Gribben, Commissioner for the Bureau of the Fiscal Service

• Joseph Gioeli, Deputy Commissioner (Transformation and Modernization), Bureau of the Fiscal Service

• Matthew J. Miller, Deputy Commissioner (Financing and Operations), Bureau of the Fiscal Service

• Jeffrey J. Schramek, Executive Director Administrative Resource Center, Bureau of the Fiscal Service

• Andrea Gacki, Director, Financial Crimes Enforcement Network

• Jimmy Kirby Jr, Deputy Director, Financial Crimes Enforcement Network

• Kristie L. McNally, Deputy Director of the Mint

• Douglas O'Donnell, Deputy Commissioner for Services and Enforcement (IRS)

• Mary G. Ryan, Administrator for the Alcohol and Tobacco Tax and Trade Bureau

• Elisabeth Kann, Deputy Administrator for the Alcohol and Tobacco Tax and Trade Bureau

• David Lebryk, Fiscal Assistant Secretary

• Addar Levi, Deputy General Counsel

• Eric Nguyen, Deputy General Counsel

Departmental Offices

• Didem Nisanci, Chief of Staff

• Kayla Arslanian, Executive Secretary

• Donna Ragucci, Director for the Office of Small and Disadvantaged Business Utilization

• Janis Bowdler, Counselor for Racial Equity

• Ethan Zindler, Climate Counselor to the Secretary

• Diane Lim, Director, Treasury Equity Hub

• Laurel Blatchford, Chief Implementation Officer for the IRA

• Ari Krupkin, Director of Strategic Planning and Protocol

• Andrew Fair, Deputy Assistant Secretary for Investment Security Operations

• Joseph Pauloski, Director Reviews and Investigations

• Alexandra Yestrumskas, Deputy Assistant Secretary for Investment Security Policy

• David Shogren, Director, Monitoring and Enforcement

• Meena Sharma, Director, Office of Investment Security Policy and International Relations

• Patricia Pollard, Deputy Assistant Secretary for International Monetary and Financial Policy

• Evangelia Bouzis, Senior Advisor

• Mirea Grotz, Director, Office of International Trade Policy

• Brian McCauley, Deputy Assistant Secretary, Europe and Eurasia

• Jeffrey Baker, Director, Office of Development Results and Accountability

• Margaret Kuhlow, Deputy Assistant Secretary for International Development Finance and Policy

• Alejandro Mares, Director, Western Hemisphere Office

• Robert Kaproth, Deputy Assistant Secretary for South and East Asia

• Michael Kaplan, Deputy Assistant Secretary for Western Hemisphere and South Asia

• Albert Lee, Director, Markets Room

• Shannon Ding, Director, Office of East Asia

• Lailee Moghtader, Deputy Assistant Secretary for Trade and Investment Policy

• Charles Moravec, Director, Multilateral Development Banks

• Clarence Severens, Senior Advisor

• Lida Fitts, Director, Office of Energy and Infrastructure

• Mathew Haarsager, Treasury Attaché Austria

• Eric Meyer, Deputy Assistant Secretary, Africa, Middle East, and Multilateral Development Bank Operations

• Jason R. Orlando, Director, Office of Technical Assistance

• Nicholas Tabor, Deputy Assistant Secretary for International Financial Markets

• Sean Hoskins, Director of Policy

• Nicholas Steele, Director of Analysis

• Renata Miskell, Deputy Assistant Secretary for Accounting Policy and Financial Transparency

• Matthew Garber, Deputy Assistant Secretary for Fiscal Operations and Policy

• Christopher H. Kubeluis, Director for the Office of Fiscal Projections

• Walter Kim, Director for the Office of Financial Institutions Policy

• Jeanette Quick, Deputy Assistant Secretary for Financial Institutions Policy

• Jeanne Bonds, Director, Office of Community and Economic Development

• Sarah Nur, Director of International Coordination and Mission Support

• Steven E. Seitz, Director Federal Insurance Office

• Stephanie Schmelz, Deputy Director of the Federal Insurance Office

• Laurie Schaffer, Principal Deputy Assistant Secretary for Financial Institutions

• Todd Conklin, Deputy Assistant Secretary for Cybersecurity and Critical Infrastructure Protection

• Natalia Li, Director Office of Consumer Policy

• Suzanna Fritzberg, Deputy Assistant Secretary for Consumer Policy

• Pravina Raghavan, Director, Community Development Financial Institutions Fund

• Marcia Sigal, Deputy Director for Policy and Programs

• Brian M. Smith, Deputy Assistant Secretary for Federal Finance

• Gary Grippo, Deputy Assistant Secretary for Public Finance

• Fred Pietrangeli, Director for the Office of Debt Management

• Nandini Ajmani, Deputy Assistant Secretary for Capital Markets

• Anupama Murgai, Director for Capital Markets

• Melissa Moye, Director, Office of State and Local Finance

• Jeffrey Kim, Director, Federal Program Finance

• Paul Ahern, Counselor to the Under Secretary for Terrorism and Financial Intelligence

• Bradley T. Smith, Director for the Office of Foreign Assets Control

• Gregory Gatjanis, Associate Director for the Office of Global Targeting

• Sara Thannhauser, Associate Director, Program Policy and Implementation, OFAC

• Lisa M. Palluconi, Deputy Director for the Office of Foreign Assets Control

• John H. Battle, Associate Director, Office of Sanctions Support & Operations

• John M. Farley, Director, Treasury Executive Office for Asset Forfeiture

• Billy Bradley, Deputy Director, Treasury Executive Office for Asset Forfeiture

• Lawrence Scheinert, Associate Director for the Office of Compliance and Enforcement

• Ripley Quinby, IV, Deputy Associate Director, Office of Global Targeting

• Scott Rembrandt, Deputy Assistant Secretary for the Office of Strategic Policy, Terrorist Financing and Financial Crimes

• Anna Morris, Deputy Assistant Secretary for Global Affairs (Europe and Middle East)

• Jesse Baker, Deputy Assistant Secretary for Global Affairs (Asia/Middle East)

• Rhett Skiles, Deputy Assistant Secretary for Intelligence

• Thomas Wolverton, Deputy Assistant Secretary for Security and Counterintelligence

• Katherine Amlin, Deputy Assistant Secretary for (Support and Technology) Intelligence Analysis

• Michael Doyle, Director, Office of Security Programs

• Michael Neufeld, Principal Deputy Assistant Secretary for Support and Technology

• Patrick Conlon, Director for Civil Liberties, Privacy Protection and Transparency

• Alice Lin, Deputy Assistant Secretary for Legislative Affairs (Tax & Budget)

• Corey Tellez, Principal Deputy Assistant Secretary for Legislative Affairs

• Christopher Burdick, Deputy Assistant Secretary for Legislative Affairs (Terrorism and Financial Intelligence)

• Angel Nigaglioni, Deputy Assistant Secretary for Legislative Affairs (Appropriations and Management)

• Isabella More, Deputy Assistant Secretary for Legislative Affairs (Oversight)

• Diana Pilipenko, Deputy Assistant Secretary for Legislative Affairs (International Affairs)

• Michael Gwin, Principal Deputy Assistant Secretary for Public Affairs (Terrorism and Financial Intelligence)

• Scott Arceneaux, Deputy Assistant Secretary for Public Engagement

• Eric Van Nostrand, Deputy Assistant Secretary for Financial Economics

• Christopher Soares, Director, Microeconomic Analysis

• Samuel Brown, Director, Office of Macroeconomic Analysis

• Jonathan S. Jaquette, Director for Receipts Forecasting

• Aviva Aron-Dine, Deputy Assistant Secretary for Tax Policy

• Neviana Petkova, Director for Business and International Taxation

• Robert Gillette, Director for the Office of Tax Analysis

• Curtis Carlson, Director of Business Revenue

• Adam Cole, Director for Individual Taxation

• Seth Hanlon, Deputy Assistant Secretary for Tax & Climate Policy

• Gregory Leiserson, Deputy Assistant Secretary for Tax Analysis

• Jessica Milano, Chief Program Officer

• Gregory Till, Chief Operating Officer, Office of Recovery Programs

• Danielle Christensen, Deputy Chief Program Officer for State and Local Programs

• Alexander Abawi, Deputy Chief Operating Officer, Office of Recover Programs

• Jeffrey Stout, Deputy Chief Program Officer for Small Business and Community Investment Programs

• Ryan Law, Deputy Assistant Secretary for Privacy Transparency and Records

• Tonya Burton, Director for the Office of Financial Management

• Lenora Stiles, Deputy Assistant Secretary for Strategy, Planning and Performance Improvement

• Kawan Taylor, Director, Financial Reporting, Policy and Operations

• William Sessions, Deputy Assistant Secretary for Management and Budget

• Carole Y. Banks, Deputy Chief Financial Officer

• Nicole K. Evans, Deputy Assistant Secretary for Acquisitions

• J. Trevor Norris, Deputy Assistant Secretary for Human Resources and Chief Human Capital Officer

• Kimberly Steide, Deputy Chief Human Capital Officer

• Michael Wenzler, Associate Chief Human Capital Officer for Executive and Human Capital Services

• Snider Page, Director, Office of Civil Rights and Equal Employment Opportunity

• Lorraine Cole, Chief Diversity and Inclusion for Departmental Offices

• Kande Hooten, Director, Office of DC Pensions

• Antony P. Arcadi, Deputy Assistant Secretary, Information Systems and Chief Information Officer

• Roger Adams, Associate Chief Information Officer for Enterprise Infrastructure Operations Services

• Roger Mishoe, Chief Data Officer

• Nicolaos Totten, Deputy Chief Information Officer for Applications and Digital Services

• Brian Peretti, Chief Technology Officer

• Jeffrey King, Principal Deputy Chief Information Officer

• Christie Lucas, Associate Chief Information Officer for Human Resources Systems

• Robert Coffman, Chief of Operations/Deputy to the Deputy Assistant Secretary for Operations

• Matthew Burton, IT Transformation Lead for IRA

• Parraize Butler, Director, Shared Services

Office of the General Counsel

• Mark Vetter, Deputy Assistant General Counsel (Ethics)

• Jonathan Bressler, Principal Deputy Assistant General Counsel (Enforcement and Intelligence)

• Frank P. Menna, Deputy Assistant General Counsel (Enforcement and Intelligence)

• Eric Froman, Assistant General Counsel (Banking and Finance)

• Stephen Milligan, Deputy Assistant General Counsel (Banking and Finance)

• Nayla Kawerk, Deputy Assistant General Counsel (International Affairs)

• Theodore Posner, Assistant General Counsel (International Affairs)

• Jeffrey M. Klein, Deputy Assistant General Counsel (International Affairs)

• Brian J. Sonfield, Assistant General Counsel (General Law, Ethics and Regulation)

• Michael Briskin, Deputy Assistant General Counsel (General Law and Regulation)

• Lindsay Kitzinger, International Tax Counsel

• Krishna Prasad Vallabhaneni, Tax Legislative Counsel

• Helen Morrison, Benefits Tax Counsel

• Kyle Brown, Deputy Benefits Tax Counsel

• James Wang, Deputy International Tax Counsel

• Michelle Dickerman, Deputy Assistant General Counsel for Litigation, Oversight and Financial Stability

• Natasha Goldvug, Deputy Tax Legislative Counsel Personal Benefits

• Shelley Leonard, Deputy Tax Legislative Counsel (Climate)

• Sean Boyce, Chief Counsel for the Financial Crimes Enforcement Network

• Heather Book, Chief Counsel for the Bureau of Engraving and Printing

• John F. Schorn, Chief Counsel for the U.S. Mint

• Lillian Lai-Lin Cheng, Chief Counsel for the Bureau of the Fiscal Service

• Christina McMahon, Chief Counsel for Alcohol and Tobacco Tax and Trade Bureau

Bureau of Engraving and Printing

• Dwayne Thomas, Associate Director, District Currency Replacement Facility Programs

• Steven Fisher, Associate Director (Chief Financial Officer)

• Richard Roy Clark, Associate Director (Quality)

• Craig Deitrick, Associate Director (Management)

• Justin D. Draheim, Associate Director (Product Design and Development)

• Harinder Singh, Associate Director, (Chief Information Officer)

• Ronald Voelker, Associate Director, Manufacturing (WCF)

• Yolanda Ward, Associate Director, Manufacturing (DCF)

• David Aten, Associate Director (Strategic Currency Transformation)

Financial Crimes Enforcement Network

• Amy L. Taylor, Associate Director, Technology Solutions and Services Division/CIO

• Peter Bergstrom, Associate Director, Management/CFO

• Dara Daniels, Associate Director Research and Analysis Division

• Whitney Case, Associate Director, Enforcement and Compliance Division

• Matthew R. Stiglitz, Associate Director, Global Investigations Division

• Katherine Ford, Associate Director, Strategic Operations Division

U.S. Mint

• Kenyatta Fletcher, Associate Director for Financial Management/CFO

• Francis O'Hearn, Associate Director for Information Technology

• Robert Kuryzna, Plant Manager, Philadelphia

• Randall Johnson, Associate Director for Manufacturing

• Keith Adams, Associate Director for Sales and Marketing/Chief Marketing and Sales Officer

• Gregory Dawson, Associate Director of Strategy and Performance

Alcohol and Tobacco Tax and Trade Bureau

• Caroline F. May, Assistant Administrator Permitting and Taxation

• Gregory Greeley, Assistant Administrator, Information Resources/CIO

• Amy Graydon, Assistant Administrator, External Affairs/Chief of Staff

• Anthony Gledhill, Assistant Administrator, Field Operations, TTB

• Joseph Burruss, Assistant Administrator, Management/CFO

• Anita Ko, Assistant Administrator, Data Analytics/Chief Data Officer

Bureau of the Fiscal Service

• Nathaniel Reboja, Assistant Commissioner and Chief Information Officer

• Peter T. Genova, Deputy Assistant Commissioner, Security Services

• Tony Paul, Deputy Assistant Commissioner and Chief Technology Officer

• Ryan Schanedig, Deputy Assistant Commissioner, Enterprise IT Operations

• Daniel Berger, Assistant Commissioner and Chief Financial Officer

• Erica Gaddy, Deputy Assistant Commissioner and Deputy Chief Financial Officer

• Dara Seaman, Associate Commissioner Financial Operations

• Linda C. Chero, Assistant Commissioner, Disbursing and Debt Management

• Christina Cox, Deputy Assistant Commissioner, Modernization, Innovation and Payment Management

• Vona Susan Robinson, Deputy Assistant Commissioner, Federal Disbursement Services

• Marisa Anthony, Deputy Assistant Commissioner, Programs, Policy and Customer Relations

• D. Michael Linder, Assistant Commissioner, Revenue Collections Management

• Tannura Elie, Deputy Assistant Commissioner, Tax and Compliance

• Madiha D. Latif, Deputy Assistant Commissioner, Collections and Deposits

• Lori Santamorena, Executive Director, Government Securities Regulations Staff

• Douglas Anderson, Assistant Commissioner (Retail Securities Services)

• Paula E. Corbin, Deputy Assistant Commissioner, ARC Service Delivery

• Daniel J. Vavasour, Assistant Commissioner, ARC Management, Modernization and Customer Care

• David T. Copenhaver, Assistant Commissioner (Wholesale Securities Services)

• Thomas T. Vannoy, Deputy Assistant Commissioner (Wholesale Securities Services)

• Adam H. Goldberg, Deputy Assistant Commissioner and Business Transformation Executive

• Sandra Paylor, Assistant Commissioner, Fiscal Accounting

• Jason T. Hill, Deputy Assistant Commissioner, ARC Management, Modernization and Customer Care

• Amanda M. Kupfner, Assistant Commissioner and Chief Strategy Integration Officer

• Alyssa W. Riedl, Deputy Assistant Commissioner, Retail Securities Services

• Angela Jones, Assistant Commissioner and Chief Human Resource Officer

• Bernadette Goodwin, Deputy Assistant Commissioner, Fiscal and Financial Agent Services

Authority: 5 U.S.C. 4314(c)(4).

Kimberly Jackson,
Human Resources Specialist, Office of Executive Resources.

[FR Doc. 2024-23832 Filed 10-15-24; 8:45 am]

BILLING CODE 4810-AK-P